DEPARTMENT OF JUSTICE

Notice of Lodging of Consent Decree Under the Clean Air Act

Under 28 CFR 50.7, notice is hereby given that on June 21, 2004, a proposed consent decree in United States and State of Arizona v. Phelps Dodge Sierrita, Inc., Civil Action No. 04-312 TUC FRZ, was lodged with the United States District Court for the District of Arizona.

In this action, the United States sought injunctive relief and civil penalties under sections 110 and 111 of the Clean Air Act (“CAA”) against Phelps Dodge Sierrita (“PDS”) for violations of the federally enforceable Arizona State Implementation Plan and the New Source Performance Standards at PDS' mine and mineral processing facility in Green Valley, Arizona. The consent decree requires PDS to comply with all applicable CAA requirements, and pay a civil penalty of $1.4 million, to be split between the United States and the State of Arizona.

The Department of Justice will receive for a period of thirty (30) days from the date of this publication comments relating to the consent decree. Comments should be addressed to the Assistant Attorney General, Environment and Natural Resources Division, PO Box 7611, U.S. Department of Justice, Washington, DC 20044-7611, and should refer to United States and State of Arizona v. Phelps Dodge Sierrita, Inc., D.J. Ref. 90-5-2-1-06548.

The consent decree may be examined at the Office of the United States Attorney, 405 West Congress Street, Suite 4800, Tucson, Arizona, and at U.S. EPA Region 9, Office of Regional Counsel, 75 Hawthorne Street, San Francisco, California. During the public comment period, the consent decree may also be examined on the following Department of Justice Web site: http://www.usdoj.gov/enrd/open.html. A copy of the consent decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (text only) or $40.50 (including appendices) (25 cents per page reproduction cost) payable to the U.S. Treasury.

Ellen M. Mahan,
Assistant Chief, Environmental Enforcement Section, Environment and Natural Resources Division.

[FR Doc. 04-14889 Filed 6-30-04; 8:45 am]

BILLING CODE 4410-15-M